DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announces the following meeting:

Name: National Center for Injury Prevention and Control (NCIPC) Initial Review Group (IRG), Environmental Health Review Workgroup.

Times and Dates: 10 a.m.-12 p.m., July 18, 2006.

Place: Teleconference.

Status: Closed: 10 a.m. to 12 p.m., July 18, 2006.

Purpose: This group is charged with providing advice and guidance to the Secretary, Department of Health and Human Services (HHS), and the Director, CDC, concerning the scientific and technical merit of grant and cooperative agreement applications received from academic institutions and other public and private profit and nonprofit organizations, including state and local government agencies, to conduct specific public health research that focuses on environmental health problems and strategies to mitigate or prevent them.

Matters to be Discussed: Agenda items include an overview of the environmental health program, discussion of the review process and panelists responsibilities, and the review of, and vote on, applications. Beginning at 10:30 a.m., July 18, through 12 p.m., July 18, the group will review individual research grant and cooperative agreement applications submitted in response to two Fiscal Year 2006 Requests for Applications (RFAs) related to the following individual research announcements: #EH06-001, “Mental Health of Humanitarian Aid Workers”; and #EH06-002, “Measuring the Psychological Impact on Communities Affected by Landmines.”

The meeting will be closed to the public in accordance with provisions set forth in section 552b(c)(4) and (6), Title 5, U.S.C., and the determination of the Director, Management Analysis and Services Office, CDC, pursuant to section 10(d) of Public Law 92-463.

Agenda items are subject to change as priorities dictate.

For Further Information Contact: Gwendolyn H. Cattledge, PhD, M.S.E.H., Executive Secretary, NCIPC IRG, CDC, 4770 Buford Highway, NE, M/S K02, Atlanta, Georgia 30341-3724, telephone 770/488-4655.

The Director, Management Analysis and Services Office has been delegated the authority to sign Federal Register Notices pertaining to announcements of meetings and other committee management activities for both CDC and the Agency for Toxic Substances and Disease Registry.

Dated: June 26, 2006.
Kathy Skipper,
Acting Director, Management Analysis and Services Office, Centers for Disease Control and Prevention.

[FR Doc. E6-10353 Filed 6-30-06; 8:45 am]

BILLING CODE 4163-18-P